FEDERAL COMMUNICATIONS COMMISSION

[DA 04-2]

Reminder to Video Programming Distributors Regarding Effective Date for Increase in Captioning Requirements

AGENCY: Federal Communications Commission.

ACTION: Notice.

SUMMARY: This document reminds video programming distributors and the public of the closed captioning benchmarks for new English and Spanish language nonexempt video programming for the period between January 1, 2004, and December 31, 2005. This document also reminds distributors of their responsibilities regarding pre-rule English and Spanish language programming. As a further reminder, this document notes that the closed captioning requirements discussed herein are separate from video programming distributors' obligations to make emergency information accessible to persons with hearing and vision disabilities as described in 47 CFR 79.2 of the Commission's rules.

DATES: January 1, 2004.

ADDRESSES: Federal Communications Commission, 445 12th Street, SW., Washington, DC 20554.

FOR FURTHER INFORMATION CONTACT: Traci Randolph, Consumer & Governmental Affairs Bureau, (202) 418-0569 (voice), (202) 418-0537 (TTY); traci.randolph@fcc.gov or Sonia Greenaway-Mickle, Media Bureau, (202) 418-1419 (voice), (202) 418-7172 (TTY); sonia.greenaway@fcc.gov.

SUPPLEMENTARY INFORMATION: This is a summary of the Commission's Public Notice DA 04-2, released January 6, 2004. All closed captioning benchmarks and rules were established to ensure that video programming is accessible to persons who are deaf or hard of hearing in accordance with the mandate of Congress as set forth in § 713 of the Telecommunications Act of 1996. To view the FCC's Factsheet summarizing all of the Commission's closed captioning rules and benchmarks go to http://www.fcc.gov/cgb/consumerfacts/closedcaption.html. The full texts of these documents are available for public inspection and copying during regular business hours at the FCC Reference Information Center, Portals II, 445 12th Street, SW., Room CY-A257, Washington, DC 20554. This public notice can also be downloaded in text and ASCII formats at http://www.fcc.gov/cgb/dro. These documents may be purchased from the Commission's duplicating contractor, Qualex International, Portals II, 445 12th Street, SW., Room CY-B402, Washington, DC 20554, (202) 863-2893 (voice), (202) 863-2898 (fax), (202) 863-2897 (TTY), or via e-mail qualexint@aol.com. To request materials in accessible formats for people with disabilities (Braille, large print, electronic files, audio format), send an e-mail to fcc504@fcc.gov or call the Consumer & Governmental Affairs Bureau at (202) 418-0531 (voice), (202) 418-7365 (TTY).

Synopsis

First, with regard to new nonexempt English language programming, between January 1, 2004, and December 31, 2005, a video programming distributor shall provide at least 1,350 hours of captioned video programming or all of its new nonexempt video programming must be provided with captions, whichever is less. These hours are measured on a per channel, per calendar quarter basis. The Commission's closed captioning benchmarks apply to both analog new programming (i.e., video programming that was first published or exhibited on or after January 1, 1998), and digital new video programming. Digital new programming is video programming prepared or formatted for display on digital televisions that was first published or exhibited on or after July 1, 2002. This benchmark is the last before the final benchmark of January 1, 2006, when 100% of all new nonexempt programming must be captioned. Second, with regard to pre-rule nonexempt English video programming, as of January 1, 2003, 30% of such programming was required to be captioned. Furthermore, as of January 1, 2008, and thereafter, 75% of the programming distributor's pre-rule nonexempt video programming being distributed and exhibited on each channel during each calendar quarter must be provided with closed captioning. Analog pre-rule programming is video programming that was first published or exhibited before January 1, 1998. Digital pre-rule programming is video programming first published or exhibited before July 1, 2002. Third, with regard to new nonexempt Spanish language programming, between January 1, 2004, and December 31, 2006, 900 hours of such programming must be closed captioned per channel per quarter, an increase from 450 hours, leading to the final benchmark of 100% of new nonexempt Spanish language programming starting January 1, 2010. Lastly, the first benchmark for pre-rule nonexempt Spanish language programming is January 1, 2005, after which 30% of the programming distributor's pre-rule nonexempt Spanish language video programming being distributed and exhibited on each channel during each calendar quarter must be provided with closed captioning. Beginning January 1, 2012, and thereafter, 75% of the programming distributor's pre-rule nonexempt Spanish language video programming must be provided with closed captioning.

Federal Communications Commission.
Margaret M. Egler,
Deputy Chief, Consumer & Governmental Affairs Bureau.

[FR Doc. 04-2088 Filed 2-2-04; 8:45 am]

BILLING CODE 6712-01-P